DEPARTMENT OF COMMERCE

Foreign-Trade Zones Board

[Order No. 1829]

Voluntary Termination of Foreign-Trade Subzone 33B Verosol USA, Inc. Kennedy Township, Allegheny County, PA

Pursuant to the authority granted in the Foreign-Trade Zones Act of June 18, 1934, as amended (19 U.S.C. 81a-81u), and the Foreign-Trade Zones Board Regulations (15 CFR part 400), the Foreign-Trade Zones Board has adopted the following order:

Whereas, on December 28, 1988, the Foreign-Trade Zones Board issued a grant of authority to the Regional Industrial Development Corporation of Southwestern Pennsylvania, grantee of FTZ 33, authorizing the establishment of Foreign-Trade Subzone 33B at the Verosol USA, Inc., plant in Kennedy Township, Allegheny County, Pennsylvania (Board Order 416, 54 FR 164, 1/4/89);

Whereas, the Regional Industrial Development Corporation of Southwestern Pennsylvania has advised that zone procedures are no longer needed at the facility and requested voluntary termination of Subzone 33B (FTZ Docket 15-2012);

Whereas, the request has been reviewed by the FTZ Staff and Customs and Border Protection officials, and approval has been recommended;

Now, therefore, the Foreign-Trade Zones Board terminates the subzone status of Subzone 33B, effective this date.

Dated: Signed at Washington, DC, this 18 day of June 2012.
Paul Piquado,
Assistant Secretary of Commerce for Import Administration, Alternate Chairman, Foreign-Trade Zones Board.

ATTEST:

Elizabeth Whiteman,
Acting Executive Secretary.

[FR Doc. 2012-15733 Filed 6-26-12; 8:45 am]

BILLING CODE 3510-DS-P